DEPARTMENT OF HEALTH AND HUMAN SERVICES

Announcement of Opportunity To Become a Healthy People 2030 Champion

AGENCY: Office of Disease Prevention and Health Promotion, Office of the Assistant Secretary for Health, Office of the Secretary, Department of Health and Human Services.

ACTION: Notice.

SUMMARY: The U.S. Department of Health and Human Services' (HHS) Office of Disease Prevention and Health Promotion (ODPHP) invites public and private sector organizations that support Healthy People 2030 (HP2030), the nation's disease prevention and health promotion plan, to become a Healthy People 2030 Champion (HP2030 Champion).

Eligibility: Any organization may apply to be a HP2030 Champion. The selected HP2030 Champions will be recognized for their commitment and work toward achieving HP2030's vision of a society in which all people can achieve their full potential for health and well-being across the lifespan.

HP2030 Champions. HP2030 Champions can be public and private organizations such as those at the state, local, county, and tribal levels, non-governmental organizations, non-profit organizations, businesses, academic organizations, organizations that impact health outcomes, philanthropic organizations, and tribal organizations that identify themselves as being aligned with or promoting HP2030, HP2030's vision, and HP2030's overarching goals. All organizations may apply. Applicants for HP2030 Champions shall submit a letter of interest and identify how they address or support health promotion, disease prevention, social determinants of health (SDOH), health disparities, health equity, and/or well-being and work in alignment with HP2030 through activities, donations, or other means. Applicants for HP2030 Champions will be evaluated according to the organization's commitment to support the overarching goals of Healthy People 2030 and the Healthy People 2030 objectives. Individuals are not eligible to be HP2030 Champions.

HP2030 Champions will receive recognition from ODPHP on Health.gov/healthypeople2030, a digital HP2030 Champion badge for their website to highlight their support of HP2030, and HP2030 information, tools and resources for dissemination.

The following activities may be considered as an organization's demonstrated commitment to HP2030's overarching goals and objectives:

• Promoting and increasing access to disease prevention and health promotion activities;

• Providing access to training or certification programs for disease prevention and health promotion;

• Addressing SDOH, eliminating disparities, achieving health equity, and/or promoting well-being;

• Providing training and other necessary resources to adapt or modify disease prevention and health promotion activities to meet the needs of diverse populations, address SDOH, eliminate disparities, achieve health equity, and/or promote well-being;

• Developing partnerships across a variety of sectors, including business, community, academia, education, faith-based, government, health care, media, public health, and technology;

• Working across sectors to address SDOH, eliminate disparities, and achieve health equity;

• Evaluating health promotion and disease prevention programs or partnering with academic institutions or public health organizations to evaluate health promotion and disease prevention activities;

• Including information in their public facing materials about programs for disease prevention, health promotion, addressing SDOH, eliminating disparities, achieving health equity, and/or promoting well-being in community needs assessments;

• Adopting or implementing the HP2030 framework (i.e., vision, mission, overarching goals, foundational principles), Leading Health Indicators (LHIs), Overall Health and Well-Being Measures (OHMs) and/or HP2030 objectives in their strategic plan;

• Promoting HP2030; providing opportunities and venues for disease prevention and health promotion activities;

• Partnering with national, state, tribal, or local volunteer organizations to provide education, training, or programs regarding health promotion, disease prevention, SDOH, health disparities, health equity, and well-being;

• Supporting an entity with the responsibility to organize and coordinate efforts within and across sectors to foster health promotion and well-being;

• Promoting collaboration across all levels, including neighborhoods, communities, tribes, cities, states, counties, and localities, to increase and expand participation in health promotion and disease prevention activities;

• Disseminating through a variety of platforms messaging about the benefits of and resources available to promote disease prevention, health promotion, well-being and the importance of addressing SDOH, health disparities, and health equity;

• Supporting the coordination and standardization of data to enable comparisons across national, state, local, county, and/or tribal levels;

• Providing grants, funding opportunities, and other resources to programs that address disease prevention, health promotion, well-being, SDOH, health equity, and health disparities.

Funds: None. Neither HHS nor ODPHP will provide funds to support HP2030 Champions. Applicants and HP2030 Champions will not be expected to contribute funds.

Application: Organizations may apply to be an HP2030 Champion. Organizations should submit a letter of interest acknowledging their support of the HP2030 vision of a society in which all people can achieve their full potential for health and well-being across the lifespan and HP2030's overarching goals. Organizations interested in being HP2030 Champions shall identify in their letters of interest those activities from the list noted above that demonstrate commitment to HP2030's overarching goals and objectives and indicate how they address or support health promotion, disease prevention, SDOH, health disparities, health equity, and well-being and work in alignment with HP2030 through activities, donations, or other means.

DATES: Letters of interest to become a HP2030 Champion should be submitted to HP2030@hhs.gov. Letters of interest will be accepted starting on July 5, 2021 and will be reviewed periodically. ODPHP will conduct an informational webinar for interested applicants on July 28, 2021, at 1 p.m. Eastern Time (ET); applicants interested in attending the informational webinar should register at https://healthypeople.webex.com/healthypeople/onstage/g.php?MTID=e97d3e46e4ec8120606577daa5c72785a or https://health.gov/healthypeople.

ADDRESSES: Letters of interest can be submitted via email to HP2030@hhs.gov.

FOR FURTHER INFORMATION CONTACT: Emmeline Ochiai, Office of Disease Prevention and Health Promotion, Office of the Assistant Secretary for Health, U.S. Department of Health and Human Services; 1101 Wootton Parkway, Suite 420, Rockville, MD 20852; Telephone: (240) 453-8280. Email: HP2030@hhs.gov.

SUPPLEMENTARY INFORMATION: Background: Each decade since 1980, the Healthy People initiative has established and monitored national health objectives with 10-year targets to meet a broad range of health needs, encourage collaborations across sectors, guide individuals toward making informed health decisions, and measure the impact of disease prevention and health promotion activities. Launched August 2020, the current iteration—HP2030—leverages scientific insights and lessons from the past decade, along with the new knowledge of current data, trends, and innovations. HP2030 provides science- and evidence-based, 10-year national objectives for promoting health and preventing disease and sets targets to be achieved by the year 2030. It identifies public health priorities that address the major risks to health and well-being, and serves as a resource for preventing disease, promoting health, addressing SDOH, eliminating health disparities, and achieving health equity. HP2030 reflects input from the Secretary's Advisory Committee on National Health Promotion and Disease Prevention; the National Academies of Sciences, Engineering, and Medicine; a technical expert panel; subject matter experts from across HHS and other federal agencies; and members of the public via multiple public comment periods. On behalf of HHS, ODPHP leads and manages the development and implementation of HP2030.

The HP2030 framework and objectives outline the nation's plan for achieving the HP2030 vision of a society in which all people can achieve their full potential for health and well-being across the lifespan. HP2030's framework includes its vision, mission, overarching goals, guiding foundational principles, and is supported by over 350 specific measurable objectives with targets, LHIs, and OHMs. HP2030 serves as a resource and provides user-centered tools for disease prevention and health promotion, including science-based objectives, national and population-level data, evidence-based resources, and SDOH literature summaries. Detailed information about HP2030 is available at https://health.gov/healthypeople.

Requirements of Interested Organizations

ODPHP invites organizations that support HP2030, disease prevention, health promotion, and well-being and that demonstrate efforts toward addressing SDOH, eliminating health disparities, and achieving health equity in the United States to submit a letter of interest to become an HP2030 Champion.

HP2030 Champion. Organizations selected by ODPHP to be HP2030 Champions will sign a letter of understanding (LOU) with ODPHP outlining the terms and parameters of their support for HP2030. Organizations selected to participate in the HP2030 Champion program with an active LOU will be granted use of the digital HP2030 Champion badge as long as the organization continues to work in alignment with the HP2030. Use of the HP2030 Champion badge does not imply any federal endorsement of the collaborating organization's general policies, activities, or products.

Eligibility for Interested Organizations

HP2030 Champion. To be eligible to become an HP2030 Champion, an organization shall: (1) Have a demonstrated interest in, understanding of, and experience with disease prevention, heath promotion, SDOH, health disparities, health equity, and/or well-being or (2) have an organizational or corporate mission that is aligned with the HP2030 vision, mission, overarching goals, foundational principles, or objectives; and (3) agree to sign a LOU with ODPHP, which will set forth the details of how the organization is supporting the vision of the HP2030.

Letter of Interest Requirements

HP2030 Champions. Each HP2030 Champion letter of interest shall contain: (1) Organization name, location, website, and submitter's contact information; (2) a brief description of the organization's mission and/or values; and (3) a description of how the organization supports or plans to support the HP2030 vision, such as addressing disease prevention, health promotion, SDOH, health disparities, health equity, well-being, prioritizing underserved populations, donating funds, or alignment with specific HP2030 objectives, LHIs, or OHMs.

Submission of a letter of interest does not guarantee acceptance as an HP2030 Champion. ODPHP will review and evaluate letters of interest for alignment with the HP2030 vision.

Authority: 42 U.S.C. 300u(a).

Dated: June 11, 2021.
Paul Reed,
Rear Admiral, U.S. Public Health Service, Deputy Assistant Secretary for Health, Director, Office of Disease Prevention and Health Promotion.

[FR Doc. 2021-13667 Filed 6-25-21; 8:45 am]

BILLING CODE 4150-32-P